DEPARTMENT OF THE INTERIOR

Bureau of Reclamation

[RR83550000, 156R5065C6, RX.59389832.1009676]

Addition to the Quarterly Status Report of Water Service, Repayment, and Other Water-Related Contract Actions

AGENCY: Bureau of Reclamation, Interior.

ACTION: Notice.

SUMMARY: Notice is hereby given of an additional proposed contract action pending through December 2015. This notice is in addition to the Quarterly Status Report of Water Service, Repayment, and Other Water-Related Contract Actions which was published in the Federal Register on January 20, 2015 (80 FR 2727).

ADDRESSES: Information pertaining to the additional contract proposal may be obtained by calling or writing the Pacific Northwest Region, Bureau of Reclamation, Ephrata Field Office, P.O. Box 815, Ephrata, Washington 98823; telephone (509) 754-0227.

FOR FURTHER INFORMATION CONTACT: Michelle Kelly, Reclamation Law Administration Division, Bureau of Reclamation, P.O. Box 25007, Denver, Colorado 80225-0007; telephone 303-445-2888.

SUPPLEMENTARY INFORMATION: The following information is added to the list of proposed or amendatory contract actions in the Pacific Northwest Region:

10. East Columbia Basin Irrigation District (District), Columbia Basin Project, Washington: Long-term contract to renew master water service contract No. 14-06-100-9165, as supplemented, to authorize the District to deliver a base quantity of up to 90,000 acre-feet of Columbia Basin Project water annually to up to 30,000 First Phase Continuation Acres located within the District, and continue delivery of additional water to land irrigated under the District's repayment contract during the peak period of irrigation water use annually.

Except for the above addition, the January 20, 2015, Federal Register notice remains the same.

Dated: March 3, 2015.
Roseann Gonzales,
Director, Policy and Administration.

[FR Doc. 2015-08596 Filed 4-13-15; 8:45 am]

BILLING CODE 4332-90-P